FEDERAL COMMUNICATIONS COMMISSION

[Report No. 2694]

Petitions for Reconsideration and Clarification of Action in Rulemaking Proceedings

February 28, 2005.

Petitions for Reconsideration and Clarification have been filed in the Commission's Rulemaking proceedings listed in this Public Notice and published pursuant to 47 CFR section 1.429(e). The full text of this document is available for viewing and copying in Room CY-B402, 445 12th Street, SW., Washington, DC or may be purchased from the Commission's copy contractor, Best Copy and Printing, Inc. (BCPI) (1-800-378-3160). Oppositions to these petitions must be filed by March 23, 2005. See section 1.4(b)(1) of the Commission's rules (47 CFR 1.4(b)(1)). Replies to an opposition must be filed within 10 days after the time for filing oppositions have expired.

Subject: In the Matter of Florida Cable Telecommunications Association, Inc., Cox Communications Gulf Coast, L.L.C., et al. vs. Gulf Power Company (EB Docket No. 04-381).

Number of Petitions Filed: 1.

Subject: In the Matter of Carrier Current Systems, including Broadband over Power Line Systems (ET Docket No. 03-104). Amendment of Part 15 regarding new requirements and measurement guidelines for Access Broadband over Power Lines Systems (ET Docket No. 04-37).

Number of Petitions Filed: 17.

Subject: In the Matter of Children's Television Obligations of Digital Television Broadcasters (MM Docket No. 00-167).

Number of Petitions Filed: 16.

Subject: In the Matter of the Amendment of the FM Table of Allotments (Sells, Wilcox, and Davis-Monthan Air Force Base, Arizona) (MB Docket No. 02-376, RM-10617, RM 10690).

Number of Petitions Filed: 1.

Subject: In the Matter of Nationwide Programmatic Agreement Regarding the Section 106 National Historic Preservation Act Review Process (WT Docket No. 03-128).

Number of Petitions Filed: 1.

Marlene H. Dortch,
Secretary.

[FR Doc. 05-4509 Filed 3-7-05; 8:45 am]

BILLING CODE 6712-01-M